ENVIRONMENTAL PROTECTION AGENCY

40 CFR Part 60

Standards of Performance for Equipment Leaks of VOC in Petroleum Refineries

CFR Correction

In Title 40 of the Code of Federal Regulations, part 60 (60.1 to End), revised as of July 1, 2002, on page 496, § 60.593 is corrected by revising paragraph (e). The revised text reads as follows:

§ 60.593 Exceptions.

* * * * *

(e) Pumps in light liquid service and valves in gas/vapor and light liquid service within a process unit that is located in the Alaskan North Slope are exempt from the requirements of § 60.482-2 and § 60.482-7.

* * * * *

[FR Doc. 03-55520 Filed 8-5-03; 8:45 am]

BILLING CODE 1505-01-D